DEPARTMENT OF TRANSPORTATION

Office of the Secretary

Notice of Applications for Certificates of Public Convenience and Necessity and Foreign Air Carrier Permits Filed Under Subpart B (Formerly Subpart Q) During the Week Ending July 16, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18615-1.

Date Filed: July 12, 2004.

Due Date for Answers, Conforming Applications, or Motion To Modify Scope: August 2, 2004.

Description: Application of America West Airlines, Inc., requesting a new or amended certificate of public convenience and necessity to engage in scheduled foreign air transportation of persons, property, and mail from points in the United States and intermediate points to a point or points in Jordan and beyond.

Docket Number: OST-2004-18638-1.

Date Filed: July 13, 2004.

Due Date for Answers, Conforming Applications, or Motion To Modify Scope: August 3, 2004.

Description: Application of Chautauqua Airlines, Inc., requesting a certificate of public convenience and necessity authorizing it to engage in scheduled interstate air transportation of persons, property and mail.

Docket Number: OST-2004-18639-1.

Date Filed: July 13, 2004.

Due Date for Answers, Conforming Applications, or Motion To Modify Scope: August 3, 2004.

Description: Application of TNT Airways S.A., requesting a foreign air carrier permit to engage in scheduled foreign air transportation of property and mail from points behind Belgium via Belgium and intermediate points to a point or points in the United States and beyond, and all-cargo charters.

Andrea M. Jenkins,
Program Manager, Docket Operations, Federal Register Liaison.

[FR Doc. 04-17930 Filed 8-4-04; 8:45 am]

BILLING CODE 4910-62-P